DEPARTMENT OF THE INTERIOR

National Park Service

[NPS-WASO-NRNHL-0311-6929; 2280-665]

National Register of Historic Places; Notification of Pending Nominations and Related Actions

Nominations for the following properties being considered for listing or related actions in the National Register were received by the National Park Service before March 5, 2011. Pursuant to sections 60.13 or 60.15 of 36 CFR part 60, written comments are being accepted concerning the significance of the nominated properties under the National Register criteria for evaluation. Comments may be forwarded by United States Postal Service, to the National Register of Historic Places, National Park Service, 1849 C St. NW.., MS 2280, Washington, DC 20240; by all other carriers, National Register of Historic Places, National Park Service, 1201 Eye St., NW., 8th floor, Washington, DC 20005; or by fax, 202-371-6447. Written or faxed comments should be submitted by April 8, 2011.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National, Historic Landmarks Program.

ARIZONA

Maricopa County

Sands Estate Historic District, Roughly bounded by W Belmont Ave, W Morten Ave, Orangewood Ave, and W Vista Ave, Glendale, 11000192

CALIFORNIA

Los Angeles County

Zane Grey Pueblo, 199 Chimes Tower Rd, Avalon, 11000189

KANSAS

McPherson County

Inman I.O.O.F. Hall, 100 N Main, Inman, 11000195

Osage County

Schuyler Grade School (Public Schools of Kansas MPS), 117 S Dacotah, Burlingame, 11000193

Sedgwick County

Wilson—Boyle House (Residential Resources of Wichita, Sedgwick County, Kansas 1870-1957), 225 N Roosevelt, Wichita, 11000194

MISSOURI

Howell County

Mount Zion Lodge Masonic Temple, 304 E Main St, West Plains, 11000188

Jasper County

Main and Eight Streets Historic District (Historic Resources of Joplin, Missouri), Portions of the 800 and 900 block of S Main St, Joplin, 11000185

Pettis County

G and G Veterinary Hospital, 711 W Main, Sedalia, 11000186

Heard, John T. and Lillian, House, 200 W Broadway, Sedalia, 11000187

NEW HAMPSHIRE

Hillsborough County

Pelham Library and Memorial Building, 5 Main St, Pelham, 11000191

Rockingham County

Salem Common Historic District, 304, 310, 312 Main St, Salem, 11000190

[FR Doc. 2011-6970 Filed 3-23-11; 8:45 am]

BILLING CODE 4312-51-P